ENVIRONMENTAL PROTECTION AGENCY

[EPA-HQ-OPP-2021-0080; FRL-8795-04-OCSPP]

Pesticide Product Registration; Receipt of Applications for New Uses—August 2021

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before September 30, 2021.

ADDRESSES: Submit your comments, identified by the docket identification (ID) number and the File Symbol of the EPA registration number of interest as shown in the body of this document, through the Federal eRulemaking Portal at http://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov, or, Anita Pease, Antimicrobials Division (AD) (7510P), main telephone number: (703) 305-7090; email address: ADFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this Action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA Registration Number: 100-1635. Docket ID number: EPA-HQ-OPP-2021-0400. Applicant: Syngenta Crop Protection, LLC, P.O. Box 18300, Greensboro, NC 27419. Active ingredient: Picarbutrazox ((1,1-dimethylethylN-[6-[[[(Z)-[1-methyl-1H-tetrazol-5-yl)phenylmthylene]amino]oxy]methyl]-2-pyridinyl]carbamate). Product type: Fungicide. Proposed use: Seed treatment use on Barley, Bean, Brassica head and stem vegetables crop group 5-16, Buckwheat, Bulb vegetables group crop group 3-07, Cotton, Cucurbit vegetables crop group 9, Fruiting vegetables crop group 8-10, Herb group 25, Leafy vegetables (except spinach) crop group 4-16, Leaves of root and tuber vegetables crop group 2, Legume vegetables crop group 6, Oat, Pea, Pearl millet, Proso millet, Rapeseed subgroup 20A, Root and tuber vegetables (except potato) crop group 1, Rye, Sorghum, Spice group 26, Spinach, Stalk, stem and leaf petiole vegetable group crop group 22, Teosinte, Triticale, and Wheat. Contact: RD.

2. EPA File Symbol: 100-RTNN. Docket ID number: EPA-HQ-OPP-2021-0400. Applicant: Syngenta Crop Protection, LLC, P.O. Box 18300, Greensboro, NC 27419. Active ingredient: Picarbutrazox ((1,1-dimethylethylN-[6-[[[(Z)-[1-methyl-1H-tetrazol-5-yl)phenylmthylene]amino]oxy]methyl]-2-pyridinyl]carbamate). Product type: Fungicide. Proposed use: Seed treatment use on Dried shelled pea and bean crop subgroup 6C. Contact: RD.

3. EPA Registration Numbers: 228-143 and 70596-1. Docket ID number: EPA-HQ-OPP-2020-0691. Applicant: Nufarm Americas, Inc. 4020 Aerial Center Pkwy., Suite 101 Morrisville, NC 27560. Product name: MCPA-4 Amine and MCPA (Technical Acid). Active ingredient: MCPA. Product type: Herbicide. Proposed use: Clover, forage and clover, hay. Contact: RD.

4. EPA Registration Number: 264-678. Docket ID number: EPA-HQ-OPP-2020-0347. Applicant: The Interregional Research Project #4 (IR-4), Rutgers, The State University of New Jersey, 500 College Road East, Suite 201W, Princeton, NJ 08540. Active ingredient: Propamocarb, propyl N-[3-(dimethylamino)propyl]carbamate. Product type: Fungicide. Proposed use: Vegetable, brassica, head and stem, group 5-16. Contact: RD.

5. EPA Registration Number: 7969-367. Docket ID number: EPA-HQ-OPP-2021-0481. Applicant: BASF Corporation, 26 Davis Drive, PO Box 13528, Research Triangle Park, NC 27709. Active ingredient: alpha-cypermethrin ((S)-α-cyano-3-phenoxybenzyl (1R,3R)-3-(2,2-dichlorovinyl)-2,2-dimethylcyclopropanecarboxylate and (R)-α-cyano-3-phenoxybenzyl (1S,3S)-3- (2,2-dichlorovinyl)-2,2-dimethylcyclopropanecarboxylate. Product type: Insecticide. Proposed use: Insecticide net covering stored food products (cocoa, dried fruit, nuts, beans, grain, coffee), processed and milled food products and finished food products stored in commercial and industrial buildings, transportation equipment (buses, boats, ships, trains, trucks and planes—cargo areas only), utilities and warehouses. Contact: RD.

6. EPA Registration Number: 7969-445; 7969-446; 7969-448. Docket ID number: EPA-HQ-OPP-2020-0498. Applicant: BASF Corporation, 26 Davis Drive, Research Triangle Park, NC 27709-3528. Active ingredient: Glufosinate-ammonium. Product type: Herbicide Manufacturing Use Product; Herbicide End Use Product. Proposed use: Avocado; bushberry subgroup 13-07B; cottonseed subgroup 20C; fig; fig, dried; fruit, small, vine climbing, except fuzzy kiwifruit, subgroup 13-07F; hop, dried cones; melon subgroup 9A; pepper/eggplant 8-10B; rapeseed subgroup 20A; squash/cucumber subgroup 9B; tomato, paste; tomato subgroup 8-10A; tropical and subtropical, small fruit, edible peel, subgroup 23A and vegetable, tuberous and corm, subgroup 1C. Contact: RD.

7. EPA Registration Number: 8033-137. Docket ID number: EPA-HQ-OPP-2021-0400. Applicant: Nippon Soda Co., Ltd., c/o Nisso America, Inc., 379 Thornall Street, 5th Floor, Edison, NJ 08837. Active ingredient: Picarbutrazox ((1,1-dimethylethylN-[6-[[[(Z)-[1-methyl-1H-tetrazol-5-yl)phenylmthylene]amino]oxy]methyl]-2-pyridinyl]carbamate). Product type: Fungicide. Proposed use: Seed treatment use on Barley, Bean, Brassica head and stem vegetables crop group 5-16, Buckwheat, Bulb vegetables group crop group 3-07, Cotton, Cucurbit vegetables crop group 9, Fruiting vegetables crop group 8-10, Herb group 25, Leafy vegetables (except spinach) crop group 4-16, Leaves of root and tuber vegetables crop group 2, Legume vegetables (except soybean) crop group 6, Oat, Pea, Pearl millet, Proso millet, Rapeseed subgroup 20A, Root and tuber vegetables (except potato) crop group 1, Rye, Sorghum, Spice group 26, Spinach, Stalk, stem and leaf petiole vegetable group crop group 22, Teosinte, Triticale, and Wheat. Contact: RD.

8. EPA Registration Numbers: 11678-57 and 66222-35. (EPA-HQ-OPP-2021-0153). Applicant: Makhteshim Agan of North America, Inc. (d/b/a ADAMA), 3120 Highwoods Boulevard, Suite 100, Raleigh, NC 27604. Active Ingredient: Novaluron. Product type: Insecticide. Proposed Uses: Individual crops of Proposed Crop Subgroup 6-19A: Edible podded bean legume vegetable subgroup including Asparagus bean, edible podded, Catjang bean, edible podded, Chinese longbean, edible podded, Cowpea, edible podded, French bean, edible podded, Garden bean, edible podded, Goa bean, edible podded, Green bean, edible podded, Guar bean, edible podded, Jackbean, edible podded, Kidney bean, edible podded, Lablab bean, edible podded, Moth bean, edible podded, Mung bean, edible podded, Navy bean, edible podded, Rice bean, edible podded, Scarlet runner bean, edible podded, Snap bean, edible podded, Sword bean, edible podded, Urd bean, edible podded, Vegetable soybean, edible podded, Velvet bean, edible podded, Wax bean, edible podded, Winged pea, edible podded, and Yardlong bean, edible podded; Individual crops of Proposed Crop Subgroup 6-19B: Edible podded pea legume vegetable subgroup including Chickpea, edible podded, Dwarf pea, edible podded, Edible podded pea, Grass-pea, edible podded, Green pea, edible podded, Lentil, edible podded, Pigeon pea, edible podded, Snap pea, edible podded, Snow pea, edible podded, and Sugar snap pea, edible podded; Individual crops of Proposed Crop Subgroup 6-19C: Succulent shelled bean subgroup including Andean lupin, succulent shelled, Blackeyed pea, succulent shelled, Blue lupin, succulent shelled, Broad bean, succulent shelled, Catjang bean, succulent shelled, Cowpea, succulent shelled, Crowder pea, succulent shelled, Goa bean, succulent shelled, Grain lupin, succulent shelled, Jackbean, succulent shelled, Lablab bean, succulent shelled, Lima bean, succulent shelled, Moth bean, succulent shelled, Scarlet runner bean, succulent shelled, Southern pea, succulent shelled, Sweet lupin, succulent shelled, Vegetable soybean, succulent shelled, Velvet bean, succulent shelled, Wax bean, succulent shelled, White lupin, succulent shelled, White sweet lupin, succulent shelled, and Yellow lupin, succulent shelled; Individual crops of Proposed Crop Subgroup 6-19D: Succulent shelled pea subgroup including Chickpea, succulent shelled, English pea, succulent shelled, Garden pea, succulent shelled, Green pea, succulent shelled, Lentil, succulent shelled, and Pigeon pea, succulent shelled; Individual crops of Proposed Crop Subgroup 6-19E: Dried shelled bean, except soybean, subgroup including Adzuki bean, dry seed, African yam-bean, dry seed, American potato bean, dry seed, Andean lupin, dry seed, Asparagus bean, dry seed, Black bean, dry seed, Blackeyed pea, dry seed, Blue lupin, dry seed, Broad bean, dry seed, Catjang bean, dry seed, Chinese longbean, dry seed, Cowpea, dry seed, Cranberry bean, dry seed, Crowder pea, dry seed, Dry bean, dry seed, Field bean, dry seed, French bean, dry seed, Garden bean, dry seed, Goa bean, dry seed, Grain lupin, dry seed, Great northern bean, dry seed, Green bean, dry seed, Guar bean, dry seed, Horse gram, dry seed, Jackbean, dry seed, Kidney bean, dry seed, Lablab bean, dry seed, Lima bean, dry seed, Morama bean, dry seed, Moth bean, dry seed, Mung bean, dry seed, Navy bean, dry seed, Pink bean, dry seed, Pinto bean, dry seed, Red bean, dry seed, Rice bean, dry seed, Scarlet runner bean, dry seed, Southern pea, dry seed, Sweet lupin, dry seed, Sword bean, dry seed, Tepary bean, dry seed, Urd bean, dry seed, Vegetable soybean, dry seed, Velvet bean, seed, dry seed, White lupin, dry seed, White sweet lupin, dry seed, Winged pea, dry seed, Yardlong bean, dry seed, Yellow bean, dry seed, and Yellow lupin, dry seed; Individual crops of Proposed Crop Subgroup 6-19F: Dried shelled pea subgroup including: Chickpea, dry seed, Dry pea, dry seed, Field pea, dry seed, Garden pea, dry seed, Grasspea, dry seed, Green pea, dry seed, Lentil, dry seed, Pigeon pea, dry seed, and Pea, forage. Contact: RD.

9. File Symbol: 42182-RU. Docket ID number: EPA-HQ-OPP-2021-0530. Applicant: Microban Products Company; 11400 Vanstory Drive, Huntersville, NC 28078. Product name: Microban Additive GS. Active ingredient: Benzoic Acid—Proposed new use: Materials preservative to prevent stain and odor causing bacteria and fungi in and on consumer, commercial, and industrial products used at up to 10%. Contact: AD.

10. File Symbol: [45728-GL and 45728-GU]. Docket ID number: EPA-HQ-OPP-2021-0290. Applicant: Taminco US LLC, a subsidiary of Eastman Chemical Company, 200 S. Wilcox Drive Kingsport, TN 37660-5147. Active ingredient: chlormequat chloride. Product type: fungicide. Proposed use: establish domestic tolerances in or on, barley, oat, triticale, and wheat grains. They are also establishing secondary residues in eggs, milk, meat, and poultry. Contact: RD.

11. EPA Registration Number: 59639-198. Docket ID number: EPA-HQ-OPP-2021-0432. Applicant: Valent U.S.A. LLC, 4600 Norris Canyon Road, P.O. Box 5075, San Ramon, CA 94583-0975. Active ingredient: Mandestrobin. Product type: Fungicide. Proposed use: Rapeseed subgroup 20A. Contact: RD.

12. EPA Registration Number: 59639-201. Docket ID number: EPA-HQ-OPP-2021-0432. Applicant: Valent U.S.A. LLC, 4600 Norris Canyon Road, P.O. Box 5075, San Ramon, CA 94583-0975. Active ingredient: Mandestrobin. Product type: Fungicide. Proposed use: Rapeseed subgroup 20A. Contact: RD.

13. EPA Registration Number: 59639-239. Docket ID number: EPA-HQ-OPP-2021-0432. Applicant: Valent U.S.A. LLC, 4600 Norris Canyon Road, P.O. Box 5075, San Ramon, CA 94583-0975. Active ingredient: Mandestrobin. Product type: Fungicide. Proposed use: Seed treatment use on Rapeseed subgroup 20A. Contact: RD.

14. EPA File Symbol: 59639-ELU. Docket ID number: EPA-HQ-OPP-2021-0432. Applicant: Valent U.S.A. LLC, 4600 Norris Canyon Road, P.O. Box 5075, San Ramon, CA 94583-0975. Active ingredient: Mandestrobin. Product type: Fungicide. Proposed use: Seed treatment use on Rapeseed subgroup 20A. Contact: RD.

15. EPA Registration Number: 62719-21, 62719-657, 62719-684, and 62719-741. Docket ID number: EPA-HQ-OPP-2021-0352. Applicant: Dow Agrosciences, 9330 Zionsville Road, Indianapolis, IN 46268. Active ingredient: Nitrapyrin. Product type: Nitrification Inhibitor. Proposed use: Cottonseed (crop subgroup 20C); cotton, gin byproducts; cotton, meal; rice, grain; and rice, straw. Contact: AD.

16. EPA Registration Number: 65402-8 and 72372-3. Docket ID Number: EPA-HQ-OPP-2021-0471. Applicant: PeroxyChem LLC., 2005 Market St. Suite 3200, Philadelphia, PA 19103: Active ingredients: Hydrogen peroxide and Ethaneperoxoic acid. Product Type: Antimicrobial. Proposed Use: Medical Waste. Contact: AD.

17. EPA Registration Number: 71512-8; 71512-1. Docket ID number: EPA-HQ-OPP-2020-0245. Applicant: ISK Biosciences Corporation, 7470 Auburn Road, Suite A, Concord, OH 44077-9703. Active ingredient: Fluazinam. Product type: Fungicide Manufacturing Use Product (MUP); Fungicide End Use Product. Proposed use: Individual commodities of Proposed Crop Subgroup 6-18A: Edible podded bean legume vegetable subgroup including: French bean, edible podded; garden bean, edible podded; green bean, edible podded; scarlet runner bean, edible; snap bean, edible; kidney bean, edible; navy bean, edible; wax bean, edible; asparagus bean, edible podded; catjang bean, edible podded; Chinese longbean, edible podded; cowpea, edible podded; moth bean, edible podded; mung bean, edible podded; rice bean, edible podded; urd bean, edible podded; yardlong bean, edible podded; goa bean, edible podded; guar bean, edible podded; jackbean, edible podded; lablab bean, edible podded; vegetable soybean, edible podded; sword bean, edible podded; winged pea, edible podded; velvet bean, edible podded. Individual commodities of Proposed Crop Subgroup 6-19B: Edible podded pea legume vegetable subgroup including: Dwarf pea, edible podded; edible podded pea; green pea, edible podded; snap pea, edible podded; snow pea, edible podded; sugar snap pea, edible podded; grass-pea, edible podded; lentil, edible podded; pigeon pea, edible podded; chickpea, edible podded. Individual commodities of Proposed Crop Subgroup 6-19C: Succulent shelled bean subgroup including: Lima bean, succulent shelled; scarlet runner bean, succulent shelled; wax bean, succulent shelled; blackeyed pea, succulent shelled; moth bean, succulent shelled; catjang bean, succulent shelled; cowpea, succulent shelled; crowder pea, succulent shelled; southern pea, succulent shelled; Andean lupin, succulent shelled; blue lupin, succulent shelled; grain lupin, succulent shelled; sweet lupin, succulent shelled; white lupin, succulent shelled; white sweet lupin, succulent shelled; yellow lupin, succulent shelled; broad bean, succulent shelled; jackbean, succulent shelled; goa bean, succulent shelled; lablab bean, succulent shelled; vegetable soybean, succulent shelled; velvet bean, succulent shelled. Individual commodities of Proposed Crop Subgroup 6-19D: Succulent shelled pea subgroup including: Chickpea, succulent shelled; English pea, succulent shelled; garden pea, succulent shelled; green pea, succulent shelled; pigeon pea, succulent shelled; lentil, succulent shelled. Individual commodities of Proposed Crop Subgroup 6-19E: Dried shelled bean, except soybean, subgroup including: African yam-bean, dry seed; American potato bean, dry seed; Andean lupin bean, dry seed; blue lupin bean, dry seed; grain lupin bean, dry seed; sweet lupin bean, dry seed; white lupin bean, dry seed; white sweet lupin bean, dry seed; yellow lupin bean, dry seed; black bean, dry seed; cranberry bean, dry seed; dry bean, dry seed; field bean, dry seed; French bean, dry seed; garden bean, dry seed; great northern bean, dry seed; green bean, dry seed; kidney bean, dry seed; Lima bean, dry seed; navy bean, dry seed; pink bean, dry seed; pinto bean, dry seed; red bean, dry seed; scarlet runner bean, dry seed; tepary bean, dry seed; yellow bean, dry seed; adzuki bean, dry seed; blackeyed pea, dry seed; asparagus bean, dry seed; catjang bean, dry seed; Chinese longbean, dry seed; cowpea, dry seed; crowder pea, dry seed; mung bean, dry seed; moth bean, dry seed; rice bean, dry seed; southern pea, dry seed; urd bean, dry seed; yardlong bean, dry seed; broad bean, dry seed; guar bean, dry seed; goa bean, dry seed; horse gram, dry seed; jackbean, dry seed; lablab bean, dry seed; morama bean, dry seed; sword bean, dry seed; winged pea, dry seed; velvet bean, dry seed; vegetable soybean, dry seed. Individual commodities of Proposed Crop Subgroup 6-19F: Dried shelled pea subgroup including: Field pea, dry seed; dry pea, dry seed; green pea, dry seed; garden pea, dry seed; chickpea, dry seed; lentil, dry seed; grass-pea, dry seed; pigeon pea, dry seed; pea, field, hay; pea, field, vines; tomato subgroup 8-10A; papaya; vegetable, brassica, head and stem, group 5-16, except cabbage; brassica, leafy greens, subgroup 4-16B; kohlrabi. Contact: RD.

18. EPA Registration Numbers: 71512-26, 71512-27, 71512-32. Docket ID Number: EPA-HQ-OPP-2021-0387. Applicant: ISK Biosciences Corporation: 7470 Auburn Road, Suite A; Concord, OH 44077. Active Ingredient: Cyclaniliprole. Product Type: Insecticide. Proposed Use: artichoke, globe and sunflower subgroup 20B and for new greenhouse uses (with amended tolerances) on tomato subgroup 8-10A and pepper/eggplant subgroup 8-10B. Contact: RD.

19. EPA Registration Number: 74655-34. Docket ID number: EPA-HQ-OPP-2021-0522. Applicant: Solenis LLC; 701 Market Street, Suite 111 Box 112; St. Augustine, FL 32095. Active ingredient: Ammonium carbamate. Product type: Antimicrobial]. Proposed use: Algal, bacterial and fungal slime control in industrial water systems (algal, bacterial and fungal slime control). Contact: AD.

Authority: 7 U.S.C. 136 et seq.

Dated: August 16, 2021.
Delores Barber,
Director, Information Technology and Resources Management Division, Office of Program Support.

[FR Doc. 2021-18719 Filed 8-30-21; 8:45 am]

BILLING CODE 6560-50-P